DEPARTMENT OF THE INTERIOR

Bureau of Land Management

[CO-01-134-1610-241A]

Notice of Colorado Canyons National Conservation Area Advisory Council Meeting Venue Change

AGENCY: Bureau of Land Management, Interior.

ACTION: Notice of Advisory Council meeting change.

SUMMARY: Beginning on August 8, 2002 the Colorado Canyons National Conservation Area (CCNCA) Advisory Council will change the venue for its monthly meetings. For the remainder of calendar year 2002, the CCNCA Advisory Council will meet at the Mesa County Courthouse, in the Mesa County Multipurpose Room, 544 Rood Avenue, Grand Junction, Colorado. All meetings begin at 3:00 p.m.

DATES: The meetings are held on the second Thursday of each month throughout calendar year 2002. The change of venue will occur on August 8, 2002.

ADDRESSES: For further information or to provide written comments, please contact Greg Gnesios, Bureau of Land Management (BLM), 2815 H Road, Grand Junction, Colorado 81506; Telephone (970) 244-3049; e-mail Gregory_Gnesios@co.blm.gov.

SUPPLEMENTARY INFORMATION: The CCNCA Advisory Council will meet on August 8, September 13, October 10, November 14 and December 12, 2002 in the Mesa County Courthouse Multipurpose room, 544 Rood Avenue, Grand Junction, CO. All meetings begin at 3 p.m.. Previous meetings this year were held at White Hall, 300 N. 6th Street, Grand Junction, Colorado.

All meetings will be open to the public and will include a time set aside for public comment. Interested persons may make oral statements at the meetings or submit written statements at any meeting. Per-person time limits for oral statements may be set to allow all interested persons an opportunity to speak.

Summary minutes of all Council meetings will be maintained at the Bureau of Land Management Office in Grand Junction, Colorado. They are available for public inspection and reproduction during regular business hours within thirty (30) days following the meeting. In addition, minutes and other information concerning the CCNCA Advisory Council, can be obtained from the CCNCA website at: http://www.co.blm.gov/cocanplan/ which will be updated following each Advisory Council meeting.

Dated: June 18, 2002.
Greg Gnesios,
Colorado Canyons National Conservation Area Manager.

[FR Doc. 02-17346 Filed 7-9-02; 8:45 am]

BILLING CODE 4310-JB-P